ENVIRONMENTAL PROTECTION AGENCY

[CERCLA-04-2017-3757; FRL 9965-49-Region 4]

Coronet Industries, Inc.: Plant City, Hillsborough County, Florida, Notice of Settlement

AGENCY: Environmental Protection Agency (EPA).

ACTION: Notice of settlement.

SUMMARY: Under 122(h) of the Comprehensive Environmental Response, Compensation and Liability Act (CERCLA), the United States Environmental Protection Agency has entered into a settlement with CEMEX Construction Materials Florida, LLC, and Hexion Inc. concerning the Coronet Industries Site located in Plant City, Hillsborough County, Florida. The settlement addresses recovery of CERCLA costs for response actions performed by the EPA at the Site.

DATES: The Agency will consider public comments on the settlement until August 25, 2017. The Agency will consider all comments received and may modify or withdraw its consent to the settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

• Internet: https://www.epa.gov/aboutepa/about-epa-region-4-southeast#r4-public-notices.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: July 11, 2017.
Anita L. Davis,
Chief, Enforcement and Community Engagement Branch, Superfund Division.

[FR Doc. 2017-15720 Filed 7-25-17; 8:45 am]

BILLING CODE 6560-50-P